FEDERAL COMMUNICATIONS COMMISSION

47 CFR Part 73

[MB Docket No. 20-340; RM-11865; DA 20-1221; FRS 17167]

Television Broadcasting Services Minneapolis, Minnesota

AGENCY: Federal Communications Commission.

ACTION: Proposed rule.

SUMMARY: The Commission has before it a petition for rulemaking filed by Multimedia Holdings Corporation (Multimedia), licensee of KARE, channel 11, Minneapolis, Minnesota, requesting the substitution of channel 31 for channel 11 at Minneapolis in the DTV Table of Allotments. The Commission instituted a freeze on the acceptance of rulemaking petitions by full power television stations requesting channel substitutions in May 2011, and Multimedia asks that the Commission waive the freeze to permit KARE to change from a VHF to a UHF channel to better serve its over-the-air viewers. Multimedia states that the Commission has recognized that VHF channels have certain propagation characteristics which may cause reception issues for some viewers. While Multimedia acknowledges that VHF reception issues are not universal, it states that since the 2009 digital transition, when it began operating exclusively on digital channel 11, KARE has received a steady stream of complaints from viewers unable to receive the station's over-the-air signal, despite being able to receive signals from other local stations. Multimedia believes that waiver of the channel substitution freeze would serve the public interest.

DATES: Comments must be filed on or before November 12, 2020 and reply comments on or before November 23, 2020.

ADDRESSES: Federal Communications Commission, Office of the Secretary, 45 L Street, NE, Washington, DC 20554. In addition to filing comments with the FCC, interested parties should serve counsel for petitioner as follows: Michael Beder, Esq., Associate General Counsel, TEGNA, Inc., 8350 Broad Street, Suite 2000, Tysons, Virginia 22102.

FOR FURTHER INFORMATION CONTACT: Joyce Bernstein, Media Bureau, at (202) 418-1647; or Joyce Bernstein, Media Bureau, at Joyce.Bernstein@fcc.gov.

SUPPLEMENTARY INFORMATION: This is a synopsis of the Commission's Notice of Proposed Rulemaking, MB Docket No. 20-340; RM-11865; DA 20-1221, adopted October 15, 2020, and released October 15, 2020. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in Section 1.1204(a) of the Commission's rules, 47 CFR 1.1204(a).

See Sections 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICE

1. The authority citation for part 73 continues to read as follows:

Authority: 47 U.S.C. 154, 155, 301, 303, 307, 309, 310, 334, 336, 339.

§ 73.622 [Amended]

2. Amend § 73.622(i), the Post-Transition Table of DTV Allotments under Minnesota, by removing channel 11 and adding channel 31 at Minneapolis.

[FR Doc. 2020-23311 Filed 10-27-20; 8:45 am]

BILLING CODE 6712-01-P